DEPARTMENT OF DEFENSE

Office of the Secretary

Defense Science Board

ACTION: Meeting date change.

SUMMARY: The Defense Science Board (DSB) Task Force on Chemical Warfare Defense closed meeting scheduled for February 27, 2001, has been changed to February 26, 2001. The meeting will be held at SAIC, 4001 N. Fairfax Drive, Arlington, VA.

Dated: February 12, 2001.
L.M. Bynum,
Alternate OSD Federal Register Liaison Officer, Department of Defense.

[FR Doc. 01-4044 Filed 2-16-01; 8:45 am]

BILLING CODE 5001-10-M